DEPARTMENT OF DEFENSE

Department of the Navy

Record of Decision for Introduction of F/A-18 E/F (Super Hornet) Aircraft to the East Coast of the United States

AGENCY: Department of the Navy, DOD.

ACTION: Notice of record of decision.

SUMMARY: The Department of the Navy announces its decision to homebase 8 fleet squadrons (96 aircraft) and the Fleet Replacement Squadron (FRS) (24 aircraft) at Naval Air Station (NAS) Oceana, Virginia, and 2 fleet squadrons (24 aircraft) at Marine Corps Air Station (MCAS) Cherry Point, North Carolina, and to construct an outlying landing field (OLF) in Washington County, North Carolina.

FOR FURTHER INFORMATION CONTACT: Mr. Fred Pierson, Atlantic Division Naval Facilities Engineering Command (Code BD32FP), 6506 Hampton Blvd., Norfolk, Virginia 23508-1278, telephone (757) 322-4935.

SUPPLEMENTARY INFORMATION: The text of the entire Record of Decision (ROD) is provided as follows:

Pursuant to section 102(2)(c) of the National Environmental Policy Act (NEPA) of 1969, 42 U.S.C. 4321, et seq.; Council on Environmental Quality regulations (40 CFR 1500-1508); and Department of the Navy regulations (32 CFR 775), the Department of the Navy announces its decision to homebase 8 Super Hornet fleet squadrons (96 aircraft) and the FRS (24 aircraft) at NAS Oceana, and 2 fleet squadrons (24 aircraft) at MCAS Cherry Point, and to construct an OLF in Washington County. This decision implements one of the preferred homebasing alternatives, Alternative (ALT) 6, and the preferred OLF siting alternative, Site C, identified in the Final Environmental Impact Statement for Introduction (FEIS) of F/A-18 E/F (Super Hornet) Aircraft to the East Coast of the United States (July 2003). Introduction of the Super Hornet squadrons in the Atlantic Fleet area of responsibility is projected to begin in 2004 and be completed by 2010.

The Department of the Navy's proposed action is to provide facilities and functions to support homebasing and operation of the Super Hornet aircraft on the East Coast of the United States. These aircraft are planned for assignment to the Atlantic Fleet to replace the F-14 (Tomcat) and earlier model F/A-18 (Hornet) aircraft. The Navy evaluated the environmental consequences associated with aircraft operations, personnel transition, and new construction or renovation of structures for a reasonable range of alternatives to accommodate the introduction of the Super Hornet aircraft to the East Coast.

Alternatives Considered: A screening process, based upon criteria set out in the Environmental Impact Statement (EIS), was conducted to identify a reasonable range of alternatives that would satisfy the Navy's purpose and need for this action. Eight home basing alternatives and a no-action alternative were analyzed in detail, as were six alternative OLF sites.

ALT 1 proposed homebasing all 10 fleet squadrons and the FRS at NAS Oceana. This alternative included use of Naval Auxiliary Landing Field (NALF) Fentress and the addition of a new OLF to support the field carrier landing practice (FCLP) operations of the Super Hornet squadrons.

ALT 2 proposed homebasing all 10 fleet squadrons and the FRS at MCAS Cherry Point. This alternative included a new OLF to support the FCLP operations of the Super Hornet squadrons because the projected number of FCLP operations of the 10 fleet squadrons and the FRS could not be accommodated at MCAS Cherry Point.

ALT 3 proposed homebasing all 10 fleet squadrons and the FRS at Marine Corps Air Station (MCAS) Beaufort, South Carolina. This alternative included a new OLF to support the FCLP operations of the Super Hornet squadrons because the projected number of FCLP operations of the 10 fleet squadrons and the FRS could not be accommodated at MCAS Beaufort. It also included the transfer of existing Marine Corps aircraft assets at MCAS Beaufort to MCAS Cherry Point in order to accommodate all of the Super Hornet squadrons at MCAS Beaufort.

ALT 4A proposed homebasing six fleet squadrons and the FRS at NAS Oceana and the remaining four fleet squadrons at MCAS Cherry Point. This alternative included continued use of NALF Fentress to support the FCLP operations of the Super Hornet squadrons homebased at NAS Oceana and the addition of a new OLF to support the FCLP operations of the Super Hornet squadrons homebased at both MCAS Cherry Point and NAS Oceana. An OLF located between the two air stations could be used by squadrons at both homebases because of the proximity of the two air stations.

ALT 4B proposed homebasing six fleet squadrons and the FRS at NAS Oceana and the remaining four fleet squadrons at MCAS Beaufort. This alternative included continued use of NALF Fentress and the addition of a new OLF to support the FCLP operations of the Super Hornet squadrons based at NAS Oceana. It also included a new OLF or parallel runway to support the FCLP operations of the Super Hornet squadrons homebased at MCAS Beaufort because the projected FCLP operations of the four fleet squadrons could not be accommodated on the existing runway configuration at MCAS Beaufort.

ALT 5A proposed homebasing six fleet squadrons and the FRS at MCAS Cherry Point and the remaining four fleet squadrons at NAS Oceana. This alternative included a new OLF to support the FCLP operations of Super Hornet squadrons homebased at MCAS Cherry Point because the projected number of FCLP operations of the six fleet squadrons and the FRS could not be accommodated at MCAS Cherry Point.

ALT 5B proposed homebasing six fleet squadrons and the FRS at MCAS Cherry Point and the remaining four fleet squadrons at MCAS Beaufort. This alternative included a new OLF to support the FCLP operations of the MCAS Cherry Point Super Hornet squadrons because the projected number of FCLP operations of the six fleet squadrons and the FRS could not be accommodated there. It also included a new OLF or parallel runway at MCAS Beaufort to support the FCLP operations of the Super Hornet squadrons homebased at MCAS Beaufort because the projected FCLP operations of the four fleet squadrons could not be accommodated on the existing runway configuration at MCAS Beaufort.

ALT 6 proposed homebasing eight fleet squadrons and the FRS at NAS Oceana and the remaining two fleet squadrons at MCAS Cherry Point. This alternative included continued use of NALF Fentress and the addition of a new OLF to support the FCLP operations of the Super Hornet squadrons homebased at both NAS Oceana and MCAS Cherry Point.

The Navy also conducted a thorough OLF siting study using the criteria described in the EIS to identify potential OLF sites to support Super Hornet homebasing. Six OLF site alternatives were evaluated in the EIS. Each site consisted of approximately 30,000 acres with a 2000-acre core area that would contain the runway and support structures. The six alternatives were: Site A, in Perquimans County, North Carolina; Site B, in Bertie County, North Carolina; Site C, in Washington County, North Carolina; Site D, in Hyde County, North Carolina; Site E, in Craven County, North Carolina; and Site F, in Burke County, Georgia.

The no action alternative maintained the status quo at air stations and OLF sites. No new or expanded facilities would be constructed, and there would be no increase in functional capacity at any homebasing site. While the no action alternative does not meet the purpose and need of providing adequate facilities and functions to support the introduction of the Super Hornet squadrons to the East Coast, it served as the baseline for describing and quantifying the impacts associated with the various siting alternatives analyzed in the EIS.

ALT 6, homebasing eight Super Hornet squadrons and the FRS at NAS Oceana and two Super Hornet squadrons at MCAS Cherry Point, is the environmentally preferred alternative. The primary environmental impact associated with homebasing the Super Hornet squadrons are impacts common to all of the homebasing alternatives: an increase in off-station noise exposure. While emissions decrease under all alternatives for NAS Oceana, and increase at other receiving bases, ALT 6 provides additional emission reduction at NAS Oceana. Of the dual-siting alternatives, ALT 6 also maximizes the investment in existing facilities and limits the amount of new construction and construction-related environmental impacts.

Site C was the environmentally preferred OLF site alternative. The estimated population within the greater than 60 Day-night average sound level (DNL) noise zone is lower at Site C than at Sites A, B, E, and F and comparable to that of Site D. Construction of the OLF at Site C will not impact wetlands, threatened and endangered species, or cultural resources. While there would be some impacts to migratory waterfowl, these impacts are mitigable and would be minor. Surrounding land use is primarily agricultural and is considered compatible with aircraft operations.

Environmental Impacts

The EIS evaluated the potential environmental consequences for each of the homebasing alternatives and the OLF sites. Potential significant impacts that could result from ALT 6, including construction of a new OLF at Site C in Washington County are discussed below:

There may be significant impacts related to noise from aircraft operations. Noise levels will increase in the vicinity of NAS Oceana, MCAS Cherry Point, and OLF Site C. Approximately 97,560 people will be within the greater than 65 DNL noise zone around the NAS Oceana/NALF Fentress complex compared to 87,529 people under the modeled 2000 noise zone—an 11% increase over existing conditions. The DNL and noise equivalent sound level (Leq) for schools within the greater than 65 DNL noise zone will increase between 0 and 4 decibels (dB), depending on location, over existing conditions. The total land area within the greater than 65 DNL noise zone around the NAS Oceana/NALF Fentress complex will increase by only 1%. While the total increase in affected land is only 1%, there will be a 17% increase in residential areas within the greater than 65 DNL noise zone in the City of Virginia Beach and a 40% decrease in residential areas within the greater than 65 DNL noise zone in the City of Chesapeake.

Approximately 8,915 people will be within the greater than 65 DNL noise zone around MCAS Cherry Point if the 2 fleet squadrons train at the new OLF, compared to 8,713 under the modeled 2000 noise zone—a 2% increase over existing conditions. The DNL and Leq for schools within the greater than 65 DNL noise zone will increase between 0 and 2 dB over existing conditions. The total land area within the greater than 65 DNL noise zone around MCAS Cherry Point will increase 22%, but includes only an 11% increase in residential areas within the greater than 65 DNL noise zone.

Generally, individuals living in the greater than 65 DNL noise zone may be annoyed and may experience interference with daily activities such as sleep, conversation, television viewing, and outdoor recreation. Homeowners living in the greater than 65 DNL noise zones associated with operations at NAS Oceana, NALF Fentress, and MCAS Cherry Point may incur costs to ensure that sufficient sound attenuation exists within their dwellings to achieve the U.S. Environmental Protection Agency (USEPA) interior noise level goal of 45 dB. There is very little probability that these homeowners will experience long-term physical effects, such as hearing loss, from exposure to the projected noise levels. Recent studies suggest, however, that some individuals, particularly children, may temporarily experience stress or elevated blood pressure from exposure to noise.

Two schools near NAS Oceana and two schools near MCAS Cherry Point are located within the greater than 75 DNL noise zone. Research on the impacts of aircraft noise, and noise in general, on the cognitive abilities of school-aged children suggests that chronic exposure to noise can result in reading deficits, impaired speech perception, and difficulty in solving cognitive problems. Local school authorities may incur costs to ensure that sufficient sound attenuation exists within the schools to achieve the USEPA-recommended interior noise level goal of 45 dB and the American National Standards Institute, Inc., design guideline that background noise levels within most classrooms should not exceed 40 dB for more than 10% of the busiest hour.

At OLF Site C in Washington County, an estimated 141 persons reside within the area encompassed by the 60 DNL noise zone. Normally, noise zones are not depicted below 65 DNL because land uses are generally compatible with aircraft operations below 65 DNL. However, due to the rural nature and low ambient noise level of the OLF site, the projected noise exposure for OLF sites was analyzed for the 60 DNL and greater noise contours. No schools or churches are located within the greater than 60 DNL noise zone at Site C. Aircraft will reach a cruising altitude of 15,000 to 25,000 feet above ground level (AGL) at 5 to 8 miles beyond the OLF. At cruising altitude, sensitive ecological resources or population centers on the ground will not be affected by aircraft operations or noise.

The Navy will acquire approximately 30,000 acres at Site C in Washington County to mitigate noise-related impacts and promote compatible development and land uses in the vicinity of the OLF. Residences within the greater than 60 DNL noise zone will be acquired based on the appraised fair market value of the property at the time the purchase offer is made. While social and family connections to the land may be disrupted, the Navy will consider means for allowing property owners continued use of the land acquired for the OLF, where such use will not interfere with the mission and the safe and efficient operation of the OLF. New commercial or residential development on lands owned by the Navy will be precluded.

Local and state jurisdictions also will be impacted by the loss of tax revenue on property acquired by the Navy for the OLF. Although lands purchased by the Navy will be removed from the local property tax rolls, agricultural lands that are purchased by the Navy will be out-leased where consistent with the mission of the OLF and continue in productive use for these purposes. These agricultural leasehold interests are taxable in North Carolina.

There may be significant impacts from the loss of prime farmland. Approximately 1,700 acres of the core area of Site C is mapped as prime farmland soils. Based on the evaluation of the site using the site assessment criteria from the U.S. Department of Agriculture, Farmland Conservation Impact Rating Form, removal of these soils for construction of an OLF represents a significant loss of prime farmland in Washington County. Where consistent with the mission of the OLF, the Navy will out-lease unused agricultural acreage surrounding the OLF core area to continue productive use for these purposes.

There may be significant impacts on airspace in the area around OLF Site C. Aircraft operations at Site C may affect commercial and private users of airspace in the vicinity of the Plymouth Municipal Airport in Plymouth, North Carolina. Aircraft will not be able to utilize visual flight rules (VFR) when transiting airspace in the area of Site C. Additionally, the Navy will purchase a private airfield and provide relocation assistance to the owner.

There may be disproportionately high and adverse impacts on minority and low-income populations. The greater than 60 DNL noise zone for Site C extends over two census tracts that contain a higher percentage of minority and low-income populations than the respective county of comparison. Based upon this census tract data, the EIS concluded that selection of Site C for an OLF could result in disproportionately high and adverse effects on minority and low-income populations. Use of census tract data produces a conservative estimation of impacts because it assumes a uniform dispersion of the population throughout any given census tract.

Mitigation

The Navy will prepare a site plan for construction of the runway at Site C, with a designated flight operations plan. This will be submitted to the Federal Aviation Administration (FAA) for a final aeronautical review/approval of Site C. Deconfliction of military and civilian air traffic will be accomplished through the establishment of Class D airspace in conjunction with an air traffic control tower at Site C. Air traffic flying in Class D airspace at altitudes of 2,500 feet or below will be required to contact the control tower in accordance with FAA regulations. Air traffic control personnel at the tower will facilitate the sequencing of aircraft inbound to the OLF and provide other air traffic with advisories regarding OLF operations.

The Navy will prepare/update and implement an Air Installations Compatible Use Zones (AICUZ) plan for NAS Oceana, MCAS Cherry Point, and OLF Site C. This will ensure that the local communities understand the Navy's operational mission and will assist the local communities in land use planning decisions.

The Navy will develop and implement a Bird/Animal Strike Hazard (BASH) reduction plan for the OLF similar to those that are effectively utilized at various East Coast Navy installations to manage the bird-aircraft collision risk. Use of bird detection radar to evaluate bird movements prior to scheduled FCLP operations will be considered. A BASH reduction plan will be prepared in conjunction with an Integrated Natural Resource Management Plan for the undeveloped portions of Site C.

The Navy will work with Washington and Beaufort counties to minimize the impact of the potential loss of property tax revenue to the greatest extent possible. The Navy will explore strategies for contracting with the local jurisdictions for the provision of necessary services such as utility support and/or maintenance. The Navy will also consider development of mutually beneficial partnerships with Washington and Beaufort counties to enhance the provision of mutually required utility services.

Response to Comments Received Regarding the Final Environmental Impact Statement

The Navy received comments on the FEIS from 3 Federal agencies, 2 members of Congress and elected state officials, 11 state agencies, 6 local governments, and numerous citizen groups and private citizens. Many of these comments simply stated support for or opposition to the preferred home basing alternatives and the preferred OLF site. Others reiterated comments that were received on the DEIS and responded to in the FEIS. Comments of general support or opposition and comments not raising new substantive issues are not addressed in the ROD. New issues raised in comments received during the 30-day public review period are addressed below.

Several commentators suggested that a supplemental EIS was necessary to address new home basing alternatives and new sites for a new OLF, or to address perceived changes in the scope of the proposed action. The range of home basing alternatives and alternative sites for a new OLF that were analyzed in the EIS represented a reasonable range of alternatives as required by NEPA, allowed the Navy to take the requisite hard look at environmental impacts, and provided a logical basis for a reasoned decision. The purpose and need for the proposed action remained constant—provide facilities and functions to support homebasing and operation of Super Hornet aircraft assigned to the Atlantic Fleet. Therefore, supplemental analysis is unnecessary.

Many of the comments received suggested that an OLF at Site C in Washington County would be damaging to the environment. To the contrary, Federal ownership and management of up to 30,000 acres of land that is currently an agricultural monoculture will create significant opportunities to enhance the environment in and around Site C. The FEIS clearly lays out all anticipated environmental impacts from construction and operation of an OLF.

Several of the comments received suggested that the FEIS understated impacts on wildlife at Site C, including impacts on the nearby Pocosin Lakes National Wildlife Refuge (NWR). Specific concerns raised in comments included impacts from the exclusion of animals/birds on the approximately 30,000-acre area the Navy would acquire, impacts on foraging and roosting waterfowl from aircraft overflights/noise, and overall impacts on the Pocosin Lakes NWR. While these issues were fully addressed in the FEIS, they are summarized here to help ensure the public has a better understanding of the issues.

Because Site C is located in a non-urbanized area within the Atlantic Flyway, the site will have an elevated BASH risk level during the fall and winter months. However, the BASH risk level will be similar to that which is currently being effectively managed at other East Coast military installations.

Significant concentrations of migratory waterfowl occur within five miles of Site C in the vicinity of the Pungo Unit of Pocosin Lakes NWR. The results of a bird radar survey completed at the site indicate that periods of time exist during which a significant number of bird species move through the airspace that will be used by aircraft operating at Site C. However, the overall amount of time when bird concentrations will cause an elevated bird/aircraft strike risk is minimal in comparison to low-risk periods. In addition, the radar survey indicated that daily peaks in bird movements and hourly trends in bird concentrations were easily detectable. Based on these factors, the use of bird detection radar at Site C will greatly reduce the risk posed by birds.

A relatively small portion of the low-level flight tracks at Site C, where flight altitudes will range from 2,000 to 2,500 feet AGL, will be located above or adjacent to significant snow goose and tundra swan loafing and foraging areas located outside of the Pocosin Lakes NWR boundary. Although flight altitudes along this portion of the flight tracks indicate that the BASH risk will not be considered severe, overflights down to 2,000 feet AGL may cause snow geese to flush more frequently from their loafing and feeding sites. The Navy will work with the United States Fish and Wildlife Service (USFWS) and state resource agencies to evaluate site-specific mitigation measures to reduce potential impacts to snow goose populations.

There is a misconception that the Navy would attempt to manipulate land use to discourage waterfowl foraging, loafing, nesting and roosting within all of the approximately 30,000-acre area proposed for acquisition. The Navy has no such intent. As stated in the FEIS, the Navy plans to out-lease significant portions of the land at Site C to allow for continued agricultural production. As clearly evidenced by such use at other military air stations, farming activities are compatible with aircraft operations. The FEIS states that management activities to discourage bird/animal foraging, loafing, nesting and roosting would be implemented in areas immediately adjacent to the airfield and not on the entire 30,000 acres. It is anticipated that the majority of the land acquired at Site C will be out-leased and that there will be no restrictions on the types of crops that can be grown. There are 215,000 acres of agricultural foraging habitat potentially available to waterfowl within 15 miles of the Pocosin Lakes NWR. The construction and operation of an OLF at Site C will directly impact less than 5% of available foraging habitat within 15 miles of the Pocosin Lakes NWR.

The Navy would develop an Integrated Natural Resources Management Plan (INRMP) for Site C. Preparation of the INRMP requires coordination with the USFWS and the North Carolina Wildlife Resources Commission (NCWRC). The INRMP will outline the overall natural resource management objectives of the OLF and ensure that these objectives are designed to protect and preserve the mission of the OLF and all on-station natural resources such as wetlands, water quality and plant and animal species. Cooperation between the USFWS, NCWRC, the Navy and other resource agencies will help to ensure effective management of wildlife and other natural resources at Site C. The INRMP would serve as a guide to maximize natural resources management opportunities consistent with the OLF mission. INRMPs have proven to be effective natural resources management tools on other naval installations and military bases around the country.

There will be no low-level over-flight of the Pocosin Lakes NWR and noise levels there are expected to be near ambient levels. The FEIS and the supporting noise study provide a comprehensive analysis of noise impacts from operation of an OLF at Site C. Site-specific noise modeling was conducted at the Pocosin Lakes NWR and DNL noise information was augmented with sound exposure level data to ensure an adequate assessment of noise impacts was provided.

Several of the comments received suggested that an OLF at Site C would result in adverse impacts to the bald eagle and red wolf, both federally listed threatened or endangered species. The Navy, with the assistance of the USFWS, identified endangered animal and plant species that could be affected by the construction and operation of an OLF at all proposed OLF locations, including Site C. The bald eagle is known to occur in the general vicinity of Site C. Site C does not contain nesting, roosting, or perching habitat for the bald eagle; therefore, the presence of bald eagles at Site C will be limited to incidental occurrences by individuals traveling over the site during migration or those that travel greater than average distances from nest sites to forage. Based on the absence of suitable nesting, roosting, or perching habitat, and studies suggesting that noise has a minimal effect on bald eagles, the Navy determined that an OLF at Site C was not likely to adversely affect the bald eagle.

Site C is located in an area important to the growth and recovery of the wild red wolf population. Wild red wolves could potentially occur in Pocosin Lakes NWR, approximately five miles east of the site. Based on a lack of reproductive and shelter habitat, wild red wolves would be considered only transient at Site C, if present. As previously discussed, no low-level flight tracks will be located above Pocosin Lakes NWR, and noise levels in the refuge will increase by an insignificant amount because of aircraft operations at Site C. Therefore, the Navy determined that an OLF at Site C was not likely to adversely affect red wolves occurring in Pocosin Lakes NWR.

Pursuant to the requirements of section 7 of the Endangered Species Act, the Navy consulted with the USFWS on potential impacts to the endangered species present at Site C. The USFWS concurred with the Navy's determination that construction and operations of an OLF in Washington County is not likely to adversely impact endangered species.

One of the comments received criticized the Navy for failing to consider the requirements of the Migratory Bird Treaty Act (MBTA). As discussed in the EIS, construction and operation of an OLF at Site C will not result in the intentional taking of any migratory birds. The Navy is instituting a BASH program in order to minimize any incidental effects from military readiness activities on birds found in the vicinity of Site C, including migratory birds.

Some of the comments received expressed concern that the FEIS did not discuss the exact number of buildings at the OLF site and how much land would be fenced, the future expansion possibilities, and exactly how the Navy plans to manage the OLF site. Specific OLF construction plans will be dictated by the unique characteristics of the site. Although the Navy does not know at this time the exact number of buildings or structures that will be constructed at the OLF or the extent of the area of the OLF that will be enclosed by a fence, the FEIS estimates that about 500 acres of the core area will be directly impacted by construction activities. The Navy took this approach in the FEIS to allow for flexibility in the design and construction of the OLF to ensure minimization of the environmental impacts. The level of analysis in the FEIS is sufficient to allow the Navy to make an informed decision. Management of the OLF site will similarly depend on the characteristics of the site chosen. A fence will enclose the core area. There currently are no plans to construct a fence around the entire 30,000-acre acquisition area. Future expansion of the OLF site currently is not contemplated. However, should the Navy in the future contemplate either expansion of the OLF and/or a significant change in operations at the OLF, preparation of additional analysis under NEPA would be completed prior to any decision to implement such changes.

Many of the comments received suggested that the Navy's BASH analysis was incomplete and inaccurate. The Navy recognized the importance of BASH early in the EIS process and met with FWS and other interested parties on many occasions. The Navy used the Bird Avoidance Model (BAM) to assist in the screening of OLF alternative sites. The Draft and Final EIS included a detailed BASH analysis of all OLF sites and recognized that BASH was a serious concern for some of the sites under consideration. Because of concerns identified with Site C during the EIS process, the Navy conducted several additional site visits between December 2002 and February 2003 and also performed a bird radar survey towards the end of the wintering waterfowl season. The bird radar survey at Site C was one data point relied on in the overall BASH assessment of all OLF sites prepared by an independent contractor with significant BASH program management experience. Additional BASH analysis included an evaluation by the Naval Safety Center's BASH Program Manager and by individuals currently working BASH issues at other naval air facilities. The Navy determined that a comprehensive BASH prevention program can be implemented at Site C and that the proposed flight operations can be conducted there in a safe manner. The BASH analysis process is discussed in detail in Section 12 of the FEIS.

One of the comments received questioned why the cost of a BASH program was not included in the FEIS. Because a BASH plan would be specific to a particular OLF site, the Navy did not attempt to develop cost estimates for BASH efforts at each of the OLF sites. A BASH plan would be developed as part of an overall INRMP for the facility. The Navy recognizes that there will be a cost to implement an INRMP at the OLF site and that those costs would include a comprehensive BASH program.

One of the comments received suggested that two large permanent conservation easements would be impacted by construction and operation of the OLF. The Navy, working with the local Natural Resource Conservation Service office, identified all permanent conservation easements in the vicinity of the OLF site. Although there are conservation easements bordering the noise contours associated with the OLF, there are no known conservation easements in the core area where construction would occur.

One of the comments received suggested that the environmental costs of building an OLF at Site E (Craven County, North Carolina) are grossly overstated, the wetlands at Site E are of marginal value, and that the presence of wetlands on the site should not be used as an excuse for eliminating it from serious consideration. As outlined in the FEIS, approximately 500 acres of wetlands would be filled if an OLF were constructed at Site E. The Navy concurs that wetlands at Site E may be of marginal value and that wetland mitigation opportunities are available at Site E that would result in a significant positive gain to wetland functions and values. For those very reasons Site E was not eliminated from serious consideration as an OLF site.

Some of the comments received suggested that the Navy failed to meet its obligations under Executive Order 12898, Federal Actions to Address Environmental Justice in Minority and Low-Income Populations. Executive Order 12898 requires that disproportionately high and adverse impacts to minority and low-income populations be clearly identified and considered by Federal agencies as they propose and execute actions. The Navy did identify and consider environmental justice issues as required by Executive Order 12898. The Navy used data from census tracts and compared race and income data for the entire census tract against regional information in an effort to present a conservative analysis of impacts to minority and low-income populations.

Some of the comments received suggested that the cumulative impacts analysis in the EIS is flawed because the cumulative effects section did not include the environmental impacts on several bombing ranges, such as Piney Island, Brant Island Shoal, Dare County, and Tyrell County, and on airspace designated as a Military Operating Area (MOA). The FEIS analyzed whether the basing of the Super Hornets would change the existing use of those ranges. The conclusion reached in the FEIS was that use of these ranges would remain approximately the same or decrease. Similarly, the Navy does not anticipate any increase in the use of the MOAs because of Super Hornet home basing or a new OLF. Therefore it was not necessary to include those impacts in the cumulative effects analysis.

One of the comments received suggested that an OLF at Site C is inconsistent with the North Carolina Coastal Zone Management Plan. The enforceable policies of the Washington County Coastal Area Management Plan were analyzed in the EIS. The Navy concluded that construction and operation of an OLF at Site C was consistent to the maximum extent practicable with the enforceable policies of the North Carolina Coastal Zone Management Plan. The North Carolina Department of Environmental and Natural Resources concurred with the Navy's determination.

Conclusions

In determining where to base F/A-18E/F Super Hornet aircraft on the East Coast in support of the Atlantic Fleet and where to site an OLF, I considered the following: Operational and readiness requirements; costs associated with the construction, operation, and maintenance of aircraft and facilities; manpower requirements and costs; the analysis of environmental and socioeconomic effects contained in the EIS; relevant federal and state statutes and regulations; and the comments received on the EIS from federal, state, and local agencies, nongovernmental organizations, and individual members of the public. After carefully weighing all of these factors, I have determined that ALT 6, dual-siting Super Hornet aircraft at NAS Oceana (eight fleet squadrons and the FRS) and MCAS Cherry Point (two fleet squadrons) with a new OLF sited in Washington County will best meet the needs of the Navy while minimizing the environmental impacts associated with basing the Super Hornet.

Dual-siting the Super Hornet squadrons between NAS Oceana and MCAS Cherry Point effectively uses the Navy's infrastructure at NAS Oceana, taking advantage of and using the capacity created with the transitioning of the Tomcat and older Hornet aircraft currently stationed there. The geographic proximity of aircraft at NAS Oceana and MCAS Cherry Point allows for the most efficient use of training ranges and OLF capacity by all the Super Hornet squadrons, as well as other aircraft based at both NAS Oceana and MCAS Cherry Point.

ALT 6 will maximize use of existing facilities and limit capital investment requirements at both NAS Oceana and MCAS Cherry Point. Construction at NAS Oceana will involve installation of a Flight Line Electrical Distribution System (FLEDS) on the existing parking apron, reconfiguration of Building 240, and internal renovations to 3 hangars. Construction at MCAS Cherry Point will include installation of a FLEDS, internal renovations to two hangars, and a new training facility, ordnance magazine, and combined medical/dental clinic. ALT 6 provides the lowest one-time construction costs and 30-year life cycle costs of any of the dual-siting alternatives considered.

Implementation of ALT 6 provides some mitigation of noise impacts at NAS Oceana and NALF Fentress. The net impact of aircraft inventory reductions and dual-siting is a 29% reduction in the number of aircraft stationed at NAS Oceana (91 fewer aircraft) compared to baseline year 2000 conditions. The number of aircraft operations at NAS Oceana is projected to decrease by 37%, and the number of operations at Naval Auxiliary Landing Field (NALF) Fentress is projected to decrease by 58%. While homebasing two Super Hornet fleet squadrons at MCAS Cherry Point will increase the number of aircraft stationed at MCAS Cherry Point by 16% (24 additional aircraft) over baseline year 2000 conditions, the number of operations is projected to increase by only 6%.

A new OLF in Washington County is essential not only for support of the Super Hornet operations under ALT 6 but also for surge conditions and future operational needs. As a result of Carrier Strike Group and Expeditionary Strike Group operational requirements generated during operations Enduring Freedom in Afghanistan and Iraqi Freedom, we now understand the critical need for surge capacity for training of multiple carrier air wings. The capacity at NALF Fentress is insufficient to accommodate FCLP requirements of more than one carrier air wing and an FRS simultaneously. The new OLF will enhance the fidelity and quality of carrier landing training under all circumstances and ensure that the Navy's Fleet Response Plan, developed to institutionalize a continuous surge capability of up to six to eight carriers in reaction to world events, can be fully carried out.

The new OLF will accommodate the FCLP operations of the Super Hornet squadrons homebased at both NAS Oceana and MCAS Cherry Point. An estimated 31,650 FCLP operations will be conducted at the new OLF annually. None of the Super Hornet squadrons or personnel will be stationed at the OLF. The facility will be operated primarily through contract personnel. Navy will acquire approximately 23,000 acres in Washington County and 7,000 acres in Beaufort County for construction and operation of a new OLF. An 8,000-foot runway and ancillary facilities will be constructed within a core area. Land surrounding the core area will be owned and controlled by the Navy and managed to promote development and land uses that are compatible with airfield operations. Any resident or business required to relocate will receive relocation assistance as provided for by Federal law and regulations. By acquiring the property, the Navy will be able to ensure that FCLP training can take place in an environment free from limitations due to surrounding populations, thereby providing superior training for Navy aircrews. This is in contrast to the pressure from residential encroachment around NALF Fentress that has resulted in deviations from standard FCLP training. While FCLP training will continue to be conducted at NALF Fentress, encroachment pressures are going to increase, as evidenced by the 44% growth in population within a 5-mile radius of NALF Fentress between 1990 and 2000.

An OLF located at Site C in Washington County—an area of low population density with compatible surrounding land uses, minimal environmental impacts, and centrally located between MCAS Cherry Point and NAS Oceana—will give the Navy critical operational flexibility and enhanced responsiveness to meet emergent threats to national security and provide the greatest potential as a valuable training asset for current and future years.

ALT 6 maximizes the use of existing infrastructure at both NAS Oceana and MCAS Cherry Point, achieves economies of scale in support, maintenance, training, and personnel requirements, optimizes effective FCLP training, and reduces or minimizes environmental impacts at all affected locations. It provides the best solution for the Navy, the affected communities, and the taxpayer.

Dated: September 3, 2003.
Hansford T. Johnson,
Assistant Secretary of the Navy (Installations and Environment).

[FR Doc. 03-22938 Filed 9-9-03; 8:45 am]

BILLING CODE 3810-FF-P